DEPARTMENT OF TRANSPORTATION

Federal Aviation Administration

Announcement of Receipt of Notice of Proposed Restriction on Stage 2 and 3 Operations at Flying Cloud Airport, Eden Prairie, MN

AGENCY: Federal Aviation Administraiton (FAA), DOT.

ACTION: Notice of proposed restrictions.

SUMMARY: The Federal Aviation Administration (FAA) has been notified by the Minneapolis-St. Paul Metropolitan Airports Commission (MAC) that it proposes to restrict jet aircraft not meeting Federal Aviation Regulations (FAR) Part 36 Stage 3 requirements from using the Flying Cloud Airport between the nighttime hours of 2200 and 0600 local time, and to restrict nighttime maintenance run-ups for all aircraft between the nighttime hours of 2200 and 0600 local time. Implementation of the proposed restrictions would be by an amendment to existing MAC Ordinance 51.

The MAC has provided notice of the proposed restriction and an opportunity to comment to the public pursuant to the Airport Noise and Capacity Act of 1990 and FAR Part 161. Notice of the proposed restrictions and availability of the analysis was locally published by the MAC on July 11, 2000.

EFFECTIVE DATE: A public hearing on the proposed restriction will be held at 7:00 PM on August 15, 2000, in the auditorium of the Hennepin Technical College, 9200 Flying Cloud Drive, Eden Prairie, MN. The comment period ends on August 30, 2000.

ADDRESSES: Comments on the proposed restrictions may be submitted to: Mark Ryan, Metropolitan Airports Commission, 2901 Metro Drive, Suite 525, Bloomington, MN 55425; Phone: (612) 726-8129; Fax: (612) 794-4407.

FOR FURTHER INFORMATION CONTACT: For further information, copies of the complete text of the proposed restrictions, and copies of the supporting analysis, contact Mark Ryan at the address or telephone number noted above. These documents are also available for public inspection at the above address.

Issued in Minneapolis, MN, on July 25, 2000.
Nancy M. Nistler,
Manager, Minneapolis Airports District Office.

[FR Doc. 00-19840 Filed 8-3-00; 8:45 am]

BILLING CODE 4910-13-M